POSTAL REGULATORY COMMISSION

39 CFR Part 3040

[Docket No. RM2020-8]

Update to Product Lists

AGENCY: Postal Regulatory Commission.

ACTION: Final rule.

SUMMARY: The Commission is announcing an update to the market dominant and competitive product lists. This action reflects a publication policy adopted by Commission rules. The referenced policy assumes periodic updates. The updates are identified in the body of this document. The market dominant and competitive product lists, which are re-published in their entirety, includes these updates.

DATES: This rule is effective September 11, 2020, without further action, unless adverse comment is received by August 27, 2020. If adverse comment is received, the Commission will publish a timely withdrawal of the rule in the Federal Register.

ADDRESSES: For additional information, this document can be accessed electronically through the Commission's website at https://www.prc.gov.

FOR FURTHER INFORMATION CONTACT: David A. Trissell, General Counsel, at 202-789-6800.

SUPPLEMENTARY INFORMATION:

I. Introduction

II. Commission Process

III. Authorization

IV. Modifications

V. Ordering Paragraphs

I. Introduction

Pursuant to 39 U.S.C. 3642(d)(2) and 39 CFR 3040.103, the Commission provides a Notice of Update to Product Lists by listing all modifications to both the market dominant and competitive product lists between April 1, 2020 and July 1, 2020.

II. Commission Process

Pursuant to 39 CFR part 3040, the Commission maintains a Mail Classification Schedule (MCS) that includes rates, fees, and product descriptions for each market dominant and competitive product, as well as product lists that categorize Postal Service products as either market dominant or competitive. See generally 39 CFR part 3040. The product lists are published in the Code of Federal Regulations as 39 CFR Appendix A to Subpart A of Part 3040—Market Dominant Product List and Appendix B to Subpart A of Part 3040—Competitive Product List pursuant to 39 U.S.C. 3642(d)(2). See 39 U.S.C. 3642(d)(2). Both the MCS and its product lists are updated by the Commission on its website on a quarterly basis.¹ In addition, these quarterly updates to the product lists are also published in the Federal Register pursuant to 39 CFR 3040.103. See 39 CFR 3040.103.

¹ See https://www.prc.gov/mail-classification-schedule in the Current MCS section.

III. Authorization

Pursuant to 39 CFR 3040.103(d)(1), this Notice of Update to Product Lists identifies any modifications made to the market dominant or competitive product list, including product additions, removals, and transfers.² Pursuant to 39 CFR 3040.103(d)(2), the modifications identified in this document result from the Commission's most recent MCS update posted on the Commission's website on July 2, 2020, and supersede all previous product lists.³

² 39 CFR 3040.103(d)(1). More detailed information (e.g., Docket Nos., Order Nos., effective dates, and extensions) for each market dominant and competitive product can be found in the MCS, including the “Revision History” section. See, e.g., file “MCSRedline03312020.docx,” available at: https://www.prc.gov/mail-classification-schedule.

³ Previous versions of the MCS and its product lists can be found on the Commission's website, available at: https://www.prc.gov/mail-classification-schedule in the MCS Archives section.

IV. Modifications

The following list of product is being added to 39 CFR Appendix A to Subpart A of Part 3040—Market Dominant Product List:

1. Commercial P.O. Box Redirect Service

The following list of products are being added to 39 CFR Appendix B to Subpart A of Part 3040—Competitive Product List:

1. First-Class Package Service Contract 107

2. First-Class Package Service Contract 108

3. First-Class Package Service Contract 109

4. First-Class Package Service Contract 110

5. Global Expedited Package Services (GEPS)—Non-Published Rates 15

6. International Priority Airmail Contract 1

7. International Priority Airmail, Commercial ePacket, Priority Mail Express International, Priority Mail International, First-Class Package International Service with Reseller Contracts 1

8. International Priority Airmail, Commercial ePacket, Priority Mail Express International, Priority Mail International, First-Class Package International Service with Reseller Contracts 2

9. International Priority Airmail, Commercial ePacket, Priority Mail Express International, Priority Mail International, First-Class Package International Service with Reseller Contracts 3

10. International Priority Airmail, Commercial ePacket, Priority Mail Express International, Priority Mail International, First-Class Package International Service with Reseller Contracts 4

11. International Priority Airmail, Commercial ePacket, Priority Mail Express International, Priority Mail International, First-Class Package International Service with Reseller Contracts 5

12. International Priority Airmail, Commercial ePacket, Priority Mail Express International, Priority Mail International, First-Class Package International Service Contracts 1

13. International Priority Airmail, Commercial ePacket, Priority Mail Express International, Priority Mail International, First-Class Package International Service Contracts 2

14. International Priority Airmail, Commercial ePacket, Priority Mail Express International, Priority Mail International, First-Class Package International Service Contracts 1

15. International Priority Airmail, Commercial ePacket, Priority Mail Express International, Priority Mail International, First-Class Package International Service Contracts 2

16. International Priority Airmail, Commercial ePacket, Priority Mail Express International, Priority Mail International, First-Class Package International Service Contracts 3

17. International Priority Airmail, Commercial ePacket, Priority Mail Express International, Priority Mail International, First-Class Package International Service Contracts 4

18. International Priority Airmail, Commercial ePacket, Priority Mail Express International, Priority Mail International, First-Class Package International Service Contracts 5

19. International Priority Airmail, Commercial ePacket, Priority Mail Express International, Priority Mail International, First-Class Package International Service Contracts 6

20. International Priority Airmail, Commercial ePacket, Priority Mail Express International, Priority Mail International, First-Class Package International Service Contracts 7

21. International Priority Airmail, Commercial ePacket, Priority Mail Express International, Priority Mail International, First-Class Package International Service Contracts 8

22. International Priority Airmail, Commercial ePacket, Priority Mail Express International, Priority Mail International, First-Class Package International Service Contracts 9

23. Parcel Return Service Contract 18

24. Priority Mail & First-Class Package Service Contract 144

25. Priority Mail & First-Class Package Service Contract 145

26. Priority Mail & First-Class Package Service Contract 146

27. Priority Mail & First-Class Package Service Contract 147

28. Priority Mail & First-Class Package Service Contract 148

29. Priority Mail & First-Class Package Service Contract 149

30. Priority Mail & First-Class Package Service Contract 150

31. Priority Mail & First-Class Package Service Contract 151

32. Priority Mail Contract 597

33. Priority Mail Contract 598

34. Priority Mail Contract 599

35. Priority Mail Contract 600

36. Priority Mail Contract 601

37. Priority Mail Contract 602

38. Priority Mail Contract 603

39. Priority Mail Contract 604

40. Priority Mail Contract 605

41. Priority Mail Contract 606

42. Priority Mail Contract 607

43. Priority Mail Contract 608

44. Priority Mail Contract 609

45. Priority Mail Contract 610

46. Priority Mail Contract 611

47. Priority Mail Contract 612

48. Priority Mail Contract 613

49. Priority Mail Contract 614

50. Priority Mail Contract 615

51. Priority Mail Contract 616

52. Priority Mail Contract 617

53. Priority Mail Contract 618

54. Priority Mail Contract 619

55. Priority Mail Contract 620

56. Priority Mail Contract 621

57. Priority Mail Contract 622

58. Priority Mail Contract 623

59. Priority Mail Contract 624

60. Priority Mail Contract 625

61. Priority Mail Contract 626

62. Priority Mail Contract 627

63. Priority Mail Express & Priority Mail Contract 113

64. Priority Mail Express & Priority Mail Contract 114

65. Priority Mail Express International, Priority Mail International, First-Class Package International Service & Commercial ePacket Contract 2

66. Priority Mail Express International, Priority Mail International, First-Class Package International Service & Commercial ePacket Contract 3

67. Priority Mail Express International, Priority Mail International, First-Class Package International Service & Commercial ePacket Contract 4

68. Priority Mail Express International, Priority Mail International, First-Class Package International Service & Commercial ePacket Contract 5

69. Priority Mail Express International, Priority Mail International, First-Class Package International Service & Commercial ePacket Contract 6

70. Priority Mail Express, Priority Mail & First-Class Package Service Contract 69

71. Priority Mail Express, Priority Mail, First-Class Package Service & Parcel Select Contract 5

72. Priority Mail Express, Priority Mail, First-Class Package Service & Parcel Select Contract 6

73. Priority Mail—Non-Published Rates 2

The following list of products are being removed from 39 CFR Appendix B to Subpart A of Part 3040—Competitive Product List:

1. First-Class Package Service Contract 45

2. First-Class Package Service Contract 55

3. First-Class Package Service Contract 97

4. Parcel Return Service Contract 6

5. Parcel Select Contract 32

6. Priority Mail & First-Class Package Service Contract 24

7. Priority Mail & First-Class Package Service Contract 35

8. Priority Mail & First-Class Package Service Contract 43

9. Priority Mail & First-Class Package Service Contract 50

10. Priority Mail & First-Class Package Service Contract 58

11. Priority Mail & First-Class Package Service Contract 78

12. Priority Mail & First-Class Package Service Contract 89

13. Priority Mail & First-Class Package Service Contract 101

14. Priority Mail & First-Class Package Service Contract 106

15. Priority Mail & First-Class Package Service Contract 107

16. Priority Mail & First-Class Package Service Contract 135

17. Priority Mail & First-Class Package Service Contract 136

18. Priority Mail Contract 150

19. Priority Mail Contract 258

20. Priority Mail Contract 272

21. Priority Mail Contract 274

22. Priority Mail Contract 277

23. Priority Mail Contract 282

24. Priority Mail Contract 298

25. Priority Mail Contract 299

26. Priority Mail Contract 305

27. Priority Mail Contract 307

28. Priority Mail Contract 310

29. Priority Mail Contract 312

30. Priority Mail Contract 317

31. Priority Mail Contract 320

32. Priority Mail Contract 323

33. Priority Mail Contract 326

34. Priority Mail Contract 328

35. Priority Mail Contract 329

36. Priority Mail Contract 330

37. Priority Mail Contract 372

38. Priority Mail Contract 382

39. Priority Mail Contract 411

40. Priority Mail Contract 423

41. Priority Mail Contract 447

42. Priority Mail Contract 448

43. Priority Mail Contract 456

44. Priority Mail Contract 475

45. Priority Mail Contract 492

46. Priority Mail Contract 506

47. Priority Mail Contract 528

48. Priority Mail Contract 537

49. Priority Mail Contract 545

50. Priority Mail Contract 548

51. Priority Mail Express & Priority Mail Contract 39

52. Priority Mail Express & Priority Mail Contract 45

53. Priority Mail Express & Priority Mail Contract 63

54. Priority Mail Express & Priority Mail Contract 65

55. Priority Mail Express & Priority Mail Contract 69

56. Priority Mail Express & Priority Mail Contract 74

57. Priority Mail Express & Priority Mail Contract 91

58. Priority Mail Express & Priority Mail Contract 98

59. Priority Mail Express & Priority Mail Contract 100

60. Priority Mail Express Contract 46

61. Priority Mail Express Contract 47

62. Priority Mail Express Contract 48

63. Priority Mail Express International, Priority Mail International & First-Class Package International Service Contract 1

64. Priority Mail Express International, Priority Mail International & Commercial ePacket Contract 1

65. Priority Mail Express, Priority Mail & First-Class Package Service Contract 60

66. Royal Mail Group Inbound Air Parcel Post Agreement

The above-referenced changes to the market dominant product list and the competitive product list are incorporated into 39 CFR Appendix A and B to Subpart A of Part 3040—Competitive Product List.

V. Ordering Paragraphs

It is ordered:

1. Part 3040 of title 39, Code of Federal Regulations, is amended as set forth below the signature of this Notice, effective 45 days after the date of publication of the Notice in the Federal Register without further action, unless adverse comments are received.

2. The Secretary shall arrange for publication of this rule in the Federal Register.

3. Interested persons may submit adverse comments no later than 30 days from the date of the publication of this Notice in the Federal Register.

4. If adverse comments are received, the Secretary will publish a timely withdrawal of the Notice in the Federal Register.

By the Commission.
Erica A. Barker,
Secretary.

List of Subjects in 39 CFR Part 3040

Administrative practice and procedure, Postal Service.

For the reasons discussed in the preamble, the Postal Regulatory Commission amends chapter III of title 39 of the Code of Federal Regulations as follows:

PART 3040—PRODUCT LISTS

1. The authority citation for part 3040 continues to read as follows:

Authority: 39 U.S.C. 503; 3622; 3631; 3642; 3682.

2. Revise Appendix A to Subpart A of Part 3040 to read as follows:

Appendix A to Subpart A of Part 3040—Market Dominant Product List

(An asterisk (*) indicates an organizational class or group, not a Postal Service product.)

First-Class Mail *

Single-Piece Letters/Postcards

Presorted Letters/Postcards

Flats

Outbound Single-Piece First-Class Mail International

Inbound Letter Post

USPS Marketing Mail (Commercial and Nonprofit) *

High Density and Saturation Letters

High Density and Saturation Flats/Parcels

Carrier Route

Letters

Flats

Parcels

Every Door Direct Mail—Retail

Periodicals *

In-County Periodicals

Outside County Periodicals

Package Services *

Alaska Bypass Service

Bound Printed Matter Flats

Bound Printed Matter Parcels

Media Mail/Library Mail

Special Services *

Ancillary Services

International Ancillary Services

Address Management Services

Caller Service

Credit Card Authentication

International Reply Coupon Service

International Business Reply Mail Service

Money Orders

Post Office Box Service

Customized Postage

Stamp Fulfillment Services

Negotiated Service Agreements *

Domestic *

International *

Inbound Market Dominant Multi-Service Agreements with Foreign Postal Operators

Nonpostal Services *

Alliances with the Private Sector to Defray Cost of Key Postal Functions

Philatelic Sales

Market Tests *

Plus One

Commercial PO Box Redirect Service

3. Revise Appendix B to Subpart A of Part 3040 to read as follows:

Appendix B to Subpart A of Part 3040—Competitive Product List

(An asterisk (*) indicates an organizational class or group, not a Postal Service product.)

Domestic Products *

Priority Mail Express

Priority Mail

Parcel Select

Parcel Return Service

First-Class Package Service

USPS Retail Ground

International Products *

Outbound International Expedited Services

Inbound Parcel Post (at UPU rates)

Outbound Priority Mail International

International Priority Airmail (IPA)

International Surface Air Lift (ISAL)

International Direct Sacks-M-Bags

Outbound Single-Piece First-Class Package International Service

Inbound Letter Post Small Packets and Bulky Letters

Negotiated Service Agreements *

Domestic *

Priority Mail Express Contract 53

Priority Mail Express Contract 54

Priority Mail Express Contract 55

Priority Mail Express Contract 56

Priority Mail Express Contract 57

Priority Mail Express Contract 60

Priority Mail Express Contract 61

Priority Mail Express Contract 62

Priority Mail Express Contract 64

Priority Mail Express Contract 65

Priority Mail Express Contract 74

Priority Mail Express Contract 75

Priority Mail Express Contract 77

Priority Mail Express Contract 78

Priority Mail Express Contract 79

Priority Mail Express Contract 80

Parcel Return Service Contract 11

Parcel Return Service Contract 13

Parcel Return Service Contract 14

Parcel Return Service Contract 15

Parcel Return Service Contract 16

Parcel Return Service Contract 17

Parcel Return Service Contract 18

Priority Mail Contract 80

Priority Mail Contract 125

Priority Mail Contract 153

Priority Mail Contract 203

Priority Mail Contract 231

Priority Mail Contract 234

Priority Mail Contract 237

Priority Mail Contract 271

Priority Mail Contract 288

Priority Mail Contract 292

Priority Mail Contract 295

Priority Mail Contract 319

Priority Mail Contract 327

Priority Mail Contract 334

Priority Mail Contract 335

Priority Mail Contract 336

Priority Mail Contract 337

Priority Mail Contract 339

Priority Mail Contract 340

Priority Mail Contract 341

Priority Mail Contract 342

Priority Mail Contract 343

Priority Mail Contract 344

Priority Mail Contract 347

Priority Mail Contract 348

Priority Mail Contract 351

Priority Mail Contract 353

Priority Mail Contract 355

Priority Mail Contract 356

Priority Mail Contract 357

Priority Mail Contract 358

Priority Mail Contract 359

Priority Mail Contract 360

Priority Mail Contract 361

Priority Mail Contract 362

Priority Mail Contract 364

Priority Mail Contract 365

Priority Mail Contract 367

Priority Mail Contract 368

Priority Mail Contract 371

Priority Mail Contract 374

Priority Mail Contract 376

Priority Mail Contract 378

Priority Mail Contract 381

Priority Mail Contract 383

Priority Mail Contract 384

Priority Mail Contract 386

Priority Mail Contract 389

Priority Mail Contract 390

Priority Mail Contract 391

Priority Mail Contract 394

Priority Mail Contract 395

Priority Mail Contract 396

Priority Mail Contract 397

Priority Mail Contract 398

Priority Mail Contract 400

Priority Mail Contract 401

Priority Mail Contract 402

Priority Mail Contract 403

Priority Mail Contract 404

Priority Mail Contract 405

Priority Mail Contract 406

Priority Mail Contract 410

Priority Mail Contract 415

Priority Mail Contract 416

Priority Mail Contract 418

Priority Mail Contract 421

Priority Mail Contract 424

Priority Mail Contract 427

Priority Mail Contract 428

Priority Mail Contract 430

Priority Mail Contract 431

Priority Mail Contract 434

Priority Mail Contract 437

Priority Mail Contract 438

Priority Mail Contract 439

Priority Mail Contract 440

Priority Mail Contract 444

Priority Mail Contract 445

Priority Mail Contract 450

Priority Mail Contract 451

Priority Mail Contract 455

Priority Mail Contract 457

Priority Mail Contract 458

Priority Mail Contract 462

Priority Mail Contract 463

Priority Mail Contract 464

Priority Mail Contract 465

Priority Mail Contract 466

Priority Mail Contract 469

Priority Mail Contract 473

Priority Mail Contract 474

Priority Mail Contract 478

Priority Mail Contract 479

Priority Mail Contract 480

Priority Mail Contract 483

Priority Mail Contract 486

Priority Mail Contract 487

Priority Mail Contract 488

Priority Mail Contract 490

Priority Mail Contract 495

Priority Mail Contract 497

Priority Mail Contract 499

Priority Mail Contract 500

Priority Mail Contract 502

Priority Mail Contract 503

Priority Mail Contract 504

Priority Mail Contract 505

Priority Mail Contract 507

Priority Mail Contract 509

Priority Mail Contract 510

Priority Mail Contract 511

Priority Mail Contract 514

Priority Mail Contract 515

Priority Mail Contract 516

Priority Mail Contract 519

Priority Mail Contract 520

Priority Mail Contract 521

Priority Mail Contract 522

Priority Mail Contract 523

Priority Mail Contract 525

Priority Mail Contract 526

Priority Mail Contract 527

Priority Mail Contract 529

Priority Mail Contract 530

Priority Mail Contract 531

Priority Mail Contract 532

Priority Mail Contract 533

Priority Mail Contract 535

Priority Mail Contract 536

Priority Mail Contract 538

Priority Mail Contract 540

Priority Mail Contract 541

Priority Mail Contract 542

Priority Mail Contract 543

Priority Mail Contract 544

Priority Mail Contract 546

Priority Mail Contract 547

Priority Mail Contract 549

Priority Mail Contract 550

Priority Mail Contract 551

Priority Mail Contract 552

Priority Mail Contract 553

Priority Mail Contract 554

Priority Mail Contract 555

Priority Mail Contract 556

Priority Mail Contract 557

Priority Mail Contract 558

Priority Mail Contract 559

Priority Mail Contract 560

Priority Mail Contract 561

Priority Mail Contract 562

Priority Mail Contract 563

Priority Mail Contract 564

Priority Mail Contract 565

Priority Mail Contract 566

Priority Mail Contract 567

Priority Mail Contract 568

Priority Mail Contract 569

Priority Mail Contract 570

Priority Mail Contract 571

Priority Mail Contract 572

Priority Mail Contract 573

Priority Mail Contract 574

Priority Mail Contract 575

Priority Mail Contract 576

Priority Mail Contract 577

Priority Mail Contract 578

Priority Mail Contract 579

Priority Mail Contract 580

Priority Mail Contract 581

Priority Mail Contract 582

Priority Mail Contract 583

Priority Mail Contract 584

Priority Mail Contract 585

Priority Mail Contract 586

Priority Mail Contract 587

Priority Mail Contract 588

Priority Mail Contract 589

Priority Mail Contract 590

Priority Mail Contract 591

Priority Mail Contract 592

Priority Mail Contract 593

Priority Mail Contract 594

Priority Mail Contract 595

Priority Mail Contract 596

Priority Mail Contract 597

Priority Mail Contract 598

Priority Mail Contract 599

Priority Mail Contract 600

Priority Mail Contract 601

Priority Mail Contract 602

Priority Mail Contract 603

Priority Mail Contract 604

Priority Mail Contract 605

Priority Mail Contract 606

Priority Mail Contract 607

Priority Mail Contract 608

Priority Mail Contract 609

Priority Mail Contract 610

Priority Mail Contract 611

Priority Mail Contract 612

Priority Mail Contract 613

Priority Mail Contract 614

Priority Mail Contract 615

Priority Mail Contract 616

Priority Mail Contract 617

Priority Mail Contract 618

Priority Mail Contract 619

Priority Mail Contract 620

Priority Mail Contract 621

Priority Mail Contract 622

Priority Mail Contract 623

Priority Mail Contract 624

Priority Mail Contract 625

Priority Mail Contract 626

Priority Mail Contract 627

Priority Mail Express & Priority Mail Contract 13

Priority Mail Express & Priority Mail Contract 48

Priority Mail Express & Priority Mail Contract 51

Priority Mail Express & Priority Mail Contract 55

Priority Mail Express & Priority Mail Contract 56

Priority Mail Express & Priority Mail Contract 57

Priority Mail Express & Priority Mail Contract 59

Priority Mail Express & Priority Mail Contract 62

Priority Mail Express & Priority Mail Contract 64

Priority Mail Express & Priority Mail Contract 66

Priority Mail Express & Priority Mail Contract 67

Priority Mail Express & Priority Mail Contract 70

Priority Mail Express & Priority Mail Contract 72

Priority Mail Express & Priority Mail Contract 73

Priority Mail Express & Priority Mail Contract 75

Priority Mail Express & Priority Mail Contract 77

Priority Mail Express & Priority Mail Contract 79

Priority Mail Express & Priority Mail Contract 83

Priority Mail Express & Priority Mail Contract 84

Priority Mail Express & Priority Mail Contract 85

Priority Mail Express & Priority Mail Contract 86

Priority Mail Express & Priority Mail Contract 88

Priority Mail Express & Priority Mail Contract 89

Priority Mail Express & Priority Mail Contract 90

Priority Mail Express & Priority Mail Contract 92

Priority Mail Express & Priority Mail Contract 94

Priority Mail Express & Priority Mail Contract 95

Priority Mail Express & Priority Mail Contract 96

Priority Mail Express & Priority Mail Contract 99

Priority Mail Express & Priority Mail Contract 101

Priority Mail Express & Priority Mail Contract 102

Priority Mail Express & Priority Mail Contract 103

Priority Mail Express & Priority Mail Contract 104

Priority Mail Express & Priority Mail Contract 105

Priority Mail Express & Priority Mail Contract 106

Priority Mail Express & Priority Mail Contract 107

Priority Mail Express & Priority Mail Contract 108

Priority Mail Express & Priority Mail Contract 109

Priority Mail Express & Priority Mail Contract 110

Priority Mail Express & Priority Mail Contract 111

Priority Mail Express & Priority Mail Contract 112

Priority Mail Express & Priority Mail Contract 113

Priority Mail Express & Priority Mail Contract 114

Parcel Select & Parcel Return Service Contract 3

Parcel Select & Parcel Return Service Contract 7

Parcel Select & Parcel Return Service Contract 8

Parcel Select & Parcel Return Service Contract 9

Parcel Select & Parcel Return Service Contract 10

Parcel Select Contract 9

Parcel Select Contract 20

Parcel Select Contract 25

Parcel Select Contract 27

Parcel Select Contract 29

Parcel Select Contract 34

Parcel Select Contract 35

Parcel Select Contract 36

Parcel Select Contract 37

Priority Mail—Non-Published Rates 1

Priority Mail—Non-Published Rates 2

First-Class Package Service Contract 75

First-Class Package Service Contract 78

First-Class Package Service Contract 79

First-Class Package Service Contract 82

First-Class Package Service Contract 85

First-Class Package Service Contract 87

First-Class Package Service Contract 89

First-Class Package Service Contract 91

First-Class Package Service Contract 92

First-Class Package Service Contract 93

First-Class Package Service Contract 94

First-Class Package Service Contract 95

First-Class Package Service Contract 96

First-Class Package Service Contract 99

First-Class Package Service Contract 100

First-Class Package Service Contract 101

First-Class Package Service Contract 102

First-Class Package Service Contract 103

First-Class Package Service Contract 104

First-Class Package Service Contract 105

First-Class Package Service Contract 106

First-Class Package Service Contract 107

First-Class Package Service Contract 108

First-Class Package Service Contract 109

First-Class Package Service Contract 110

Priority Mail Express, Priority Mail & First-Class Package Service Contract 15

Priority Mail Express, Priority Mail & First-Class Package Service Contract 16

Priority Mail Express, Priority Mail & First-Class Package Service Contract 17

Priority Mail Express, Priority Mail & First-Class Package Service Contract 20

Priority Mail Express, Priority Mail & First-Class Package Service Contract 21

Priority Mail Express, Priority Mail & First-Class Package Service Contract 23

Priority Mail Express, Priority Mail & First-Class Package Service Contract 24

Priority Mail Express, Priority Mail & First-Class Package Service Contract 25

Priority Mail Express, Priority Mail & First-Class Package Service Contract 27

Priority Mail Express, Priority Mail & First-Class Package Service Contract 28

Priority Mail Express, Priority Mail & First-Class Package Service Contract 29

Priority Mail Express, Priority Mail & First-Class Package Service Contract 30

Priority Mail Express, Priority Mail & First-Class Package Service Contract 31

Priority Mail Express, Priority Mail & First-Class Package Service Contract 32

Priority Mail Express, Priority Mail & First-Class Package Service Contract 35

Priority Mail Express, Priority Mail & First-Class Package Service Contract 36

Priority Mail Express, Priority Mail & First-Class Package Service Contract 37

Priority Mail Express, Priority Mail & First-Class Package Service Contract 38

Priority Mail Express, Priority Mail & First-Class Package Service Contract 39

Priority Mail Express, Priority Mail & First-Class Package Service Contract 40

Priority Mail Express, Priority Mail & First-Class Package Service Contract 43

Priority Mail Express, Priority Mail & First-Class Package Service Contract 44

Priority Mail Express, Priority Mail & First-Class Package Service Contract 45

Priority Mail Express, Priority Mail & First-Class Package Service Contract 46

Priority Mail Express, Priority Mail & First-Class Package Service Contract 47

Priority Mail Express, Priority Mail & First-Class Package Service Contract 48

Priority Mail Express, Priority Mail & First-Class Package Service Contract 51

Priority Mail Express, Priority Mail & First-Class Package Service Contract 52

Priority Mail Express, Priority Mail & First-Class Package Service Contract 53

Priority Mail Express, Priority Mail & First-Class Package Service Contract 55

Priority Mail Express, Priority Mail & First-Class Package Service Contract 56

Priority Mail Express, Priority Mail & First-Class Package Service Contract 57

Priority Mail Express, Priority Mail & First-Class Package Service Contract 58

Priority Mail Express, Priority Mail & First-Class Package Service Contract 59

Priority Mail Express, Priority Mail & First-Class Package Service Contract 61

Priority Mail Express, Priority Mail & First-Class Package Service Contract 62

Priority Mail Express, Priority Mail & First-Class Package Service Contract 63

Priority Mail Express, Priority Mail & First-Class Package Service Contract 65

Priority Mail Express, Priority Mail & First-Class Package Service Contract 66

Priority Mail Express, Priority Mail & First-Class Package Service Contract 67

Priority Mail Express, Priority Mail & First-Class Package Service Contract 68

Priority Mail Express, Priority Mail & First-Class Package Service Contract 69

Priority Mail & First-Class Package Service Contract 9

Priority Mail & First-Class Package Service Contract 26

Priority Mail & First-Class Package Service Contract 48

Priority Mail & First-Class Package Service Contract 49

Priority Mail & First-Class Package Service Contract 53

Priority Mail & First-Class Package Service Contract 54

Priority Mail & First-Class Package Service Contract 55

Priority Mail & First-Class Package Service Contract 56

Priority Mail & First-Class Package Service Contract 57

Priority Mail & First-Class Package Service Contract 59

Priority Mail & First-Class Package Service Contract 61

Priority Mail & First-Class Package Service Contract 62

Priority Mail & First-Class Package Service Contract 64

Priority Mail & First-Class Package Service Contract 67

Priority Mail & First-Class Package Service Contract 69

Priority Mail & First-Class Package Service Contract 70

Priority Mail & First-Class Package Service Contract 71

Priority Mail & First-Class Package Service Contract 72

Priority Mail & First-Class Package Service Contract 73

Priority Mail & First-Class Package Service Contract 74

Priority Mail & First-Class Package Service Contract 77

Priority Mail & First-Class Package Service Contract 79

Priority Mail & First-Class Package Service Contract 80

Priority Mail & First-Class Package Service Contract 81

Priority Mail & First-Class Package Service Contract 83

Priority Mail & First-Class Package Service Contract 85

Priority Mail & First-Class Package Service Contract 86

Priority Mail & First-Class Package Service Contract 87

Priority Mail & First-Class Package Service Contract 88

Priority Mail & First-Class Package Service Contract 92

Priority Mail & First-Class Package Service Contract 93

Priority Mail & First-Class Package Service Contract 94

Priority Mail & First-Class Package Service Contract 95

Priority Mail & First-Class Package Service Contract 97

Priority Mail & First-Class Package Service Contract 98

Priority Mail & First-Class Package Service Contract 99

Priority Mail & First-Class Package Service Contract 100

Priority Mail & First-Class Package Service Contract 102

Priority Mail & First-Class Package Service Contract 103

Priority Mail & First-Class Package Service Contract 104

Priority Mail & First-Class Package Service Contract 105

Priority Mail & First-Class Package Service Contract 108

Priority Mail & First-Class Package Service Contract 109

Priority Mail & First-Class Package Service Contract 110

Priority Mail & First-Class Package Service Contract 111

Priority Mail & First-Class Package Service Contract 112

Priority Mail & First-Class Package Service Contract 113

Priority Mail & First-Class Package Service Contract 114

Priority Mail & First-Class Package Service Contract 115

Priority Mail & First-Class Package Service Contract 116

Priority Mail & First-Class Package Service Contract 117

Priority Mail & First-Class Package Service Contract 118

Priority Mail & First-Class Package Service Contract 119

Priority Mail & First-Class Package Service Contract 120

Priority Mail & First-Class Package Service Contract 121

Priority Mail & First-Class Package Service Contract 122

Priority Mail & First-Class Package Service Contract 123

Priority Mail & First-Class Package Service Contract 124

Priority Mail & First-Class Package Service Contract 125

Priority Mail & First-Class Package Service Contract 126

Priority Mail & First-Class Package Service Contract 127

Priority Mail & First-Class Package Service Contract 128

Priority Mail & First-Class Package Service Contract 129

Priority Mail & First-Class Package Service Contract 130

Priority Mail & First-Class Package Service Contract 131

Priority Mail & First-Class Package Service Contract 132

Priority Mail & First-Class Package Service Contract 133

Priority Mail & First-Class Package Service Contract 134

Priority Mail & First-Class Package Service Contract 137

Priority Mail & First-Class Package Service Contract 138

Priority Mail & First-Class Package Service Contract 139

Priority Mail & First-Class Package Service Contract 140

Priority Mail & First-Class Package Service Contract 141

Priority Mail & First-Class Package Service Contract 142

Priority Mail & First-Class Package Service Contract 143

Priority Mail & First-Class Package Service Contract 144

Priority Mail & First-Class Package Service Contract 145

Priority Mail & First-Class Package Service Contract 146

Priority Mail & First-Class Package Service Contract 147

Priority Mail & First-Class Package Service Contract 148

Priority Mail & First-Class Package Service Contract 149

Priority Mail & First-Class Package Service Contract 150

Priority Mail & First-Class Package Service Contract 151

Priority Mail Express & First-Class Package Service Contract 1

Priority Mail Express & First-Class Package Service Contract 3

Priority Mail Express, Priority Mail, First-Class Package Service & Parcel Select Contract 1

Priority Mail Express, Priority Mail, First-Class Package Service & Parcel Select Contract 2

Priority Mail Express, Priority Mail, First-Class Package Service & Parcel Select Contract 3

Priority Mail Express, Priority Mail, First-Class Package Service & Parcel Select Contract 4

Priority Mail Express, Priority Mail, First-Class Package Service & Parcel Select Contract 5

Priority Mail Express, Priority Mail, First-Class Package Service & Parcel Select Contract 6

Outbound International*

Global Expedited Package Services (GEPS) Contracts

GEPS 3

GEPS 5

GEPS 6

GEPS 7

GEPS 8

GEPS 9

GEPS 10

Global Bulk Economy (GBE) Contracts

Global Plus Contracts

Global Plus 1C

Global Plus 1D

Global Plus 1E

Global Plus 2C

Global Plus 3

Global Plus 4

Global Plus 5

Global Plus 6

Global Reseller Expedited Package Contracts

Global Reseller Expedited Package Services 1

Global Reseller Expedited Package Services 2

Global Reseller Expedited Package Services 3

Global Reseller Expedited Package Services 4

Global Expedited Package Services (GEPS)—Non-Published Rates

Global Expedited Package Services (GEPS)—Non-Published Rates 2

Global Expedited Package Services (GEPS)—Non-Published Rates 3

Global Expedited Package Services (GEPS)—Non-Published Rates 4

Global Expedited Package Services (GEPS)—Non-Published Rates 5

Global Expedited Package Services (GEPS)—Non-Published Rates 6

Global Expedited Package Services (GEPS)—Non-Published Rates 7

Global Expedited Package Services (GEPS)—Non-Published Rates 8

Global Expedited Package Services (GEPS)—Non-Published Rates 9

Global Expedited Package Services (GEPS)—Non-Published Rates 10

Global Expedited Package Services (GEPS)—Non-Published Rates 11

Global Expedited Package Services (GEPS)—Non-Published Rates 12

Global Expedited Package Services (GEPS)—Non-Published Rates 13

Global Expedited Package Services (GEPS)—Non-Published Rates 14

Global Expedited Package Services (GEPS)—Non-Published Rates 15

Priority Mail International Regional Rate Boxes—Non-Published Rates

Outbound Competitive International Merchandise Return Service Agreement with Royal Mail Group, Ltd.

Priority Mail International Regional Rate Boxes Contracts

Priority Mail International Regional Rate Boxes Contracts 1

Competitive International Merchandise Return Service Agreements with Foreign Postal Operators

Competitive International Merchandise Return Service Agreements with Foreign Postal Operators 1

Competitive International Merchandise Return Service Agreements with Foreign Postal Operators 2

Alternative Delivery Provider (ADP) Contracts

ADP 1

Alternative Delivery Provider Reseller (ADPR) Contracts

ADPR 1

Priority Mail Express International, Priority Mail International & First-Class Package International Service Contracts

Priority Mail Express International, Priority Mail International, First-Class Package International Service & Commercial ePacket Contracts

Priority Mail Express International, Priority Mail International, First-Class Package International Service & Commercial ePacket 2

Priority Mail Express International, Priority Mail International, First-Class Package International Service & Commercial ePacket 3

Priority Mail Express International, Priority Mail International, First-Class Package International Service & Commercial ePacket 4

Priority Mail Express International, Priority Mail International, First-Class Package International Service & Commercial ePacket 5

Priority Mail Express International, Priority Mail International, First-Class Package International Service & Commercial ePacket-6

Priority Mail Express International, Priority Mail International & Commercial ePacket Contracts

International Priority Airmail, Commercial ePacket, Priority Mail Express International, Priority Mail International & First-Class Package International Service Contracts

International Priority Airmail, Commercial ePacket, Priority Mail Express International, Priority Mail International & First-Class Package International Service Contract 1

International Priority Airmail, Commercial ePacket, Priority Mail Express International, Priority Mail International & First-Class Package International Service Contract 2

International Priority Airmail, Commercial ePacket, Priority Mail Express International, Priority Mail International & First-Class Package International Service Contract 3

International Priority Airmail, Commercial ePacket, Priority Mail Express International, Priority Mail International & First-Class Package International Service Contract 4

International Priority Airmail, Commercial ePacket, Priority Mail Express International, Priority Mail International & First-Class Package International Service Contract 5

International Priority Airmail, Commercial ePacket, Priority Mail Express International, Priority Mail International & First-Class Package International Service Contract 6

International Priority Airmail, Commercial ePacket, Priority Mail Express International, Priority Mail International & First-Class Package International Service Contract 7

International Priority Airmail, Commercial ePacket, Priority Mail Express International, Priority Mail International & First-Class Package International Service Contract 8

International Priority Airmail, Commercial ePacket, Priority Mail Express International, Priority Mail International & First-Class Package International Service Contract 9

International Priority Airmail, Commercial ePacket, Priority Mail Express International, Priority Mail International & First-Class Package International Service with Reseller Contracts

International Priority Airmail, Commercial ePacket, Priority Mail Express International, Priority Mail International & First-Class Package International Service with Reseller Contract 1

International Priority Airmail, Commercial ePacket, Priority Mail Express International, Priority Mail International & First-Class Package International Service with Reseller Contract 2

International Priority Airmail, Commercial ePacket, Priority Mail Express International, Priority Mail International & First-Class Package International Service with Reseller Contract 3

International Priority Airmail, Commercial ePacket, Priority Mail Express International, Priority Mail International & First-Class Package International Service with Reseller Contract 4

International Priority Airmail, Commercial ePacket, Priority Mail Express International, Priority Mail International & First-Class Package International Service with Reseller Contract 5

International Priority Airmail Contracts

International Priority Airmail Contract 1

International Priority Airmail, International Surface Air Lift, Commercial ePacket, Priority Mail Express International, Priority Mail International & First-Class Package International Service with Reseller Contracts

International Priority Airmail, International Surface Air Lift, Commercial ePacket, Priority Mail Express International, Priority Mail International & First-Class Package International Service with Reseller Contract 1

International Priority Airmail, International Surface Air Lift, Commercial ePacket, Priority Mail Express International, Priority Mail International & First-Class Package International Service with Reseller Contract 2

Inbound International *

International Business Reply Service (IBRS) Competitive Contracts

International Business Reply Service Competitive Contract 1

International Business Reply Service Competitive Contract 3

Inbound Direct Entry Contracts with Customers

Inbound Direct Entry Contracts with Foreign Postal Administrations

Inbound Direct Entry Contracts with Foreign Postal Administrations

Inbound Direct Entry Contracts with Foreign Postal Administrations 1

Inbound EMS

Inbound EMS 2

Inbound Air Parcel Post (at non-UPU rates)

Inbound Competitive Multi-Service Agreements with Foreign Postal Operators

Inbound Competitive Multi-Service Agreements with Foreign Postal Operators 1

Special Services *

Address Enhancement Services

Greeting Cards, Gift Cards, and Stationery

International Ancillary Services

International Money Transfer Service—Outbound

International Money Transfer Service—Inbound

Premium Forwarding Service

Shipping and Mailing Supplies

Post Office Box Service

Competitive Ancillary Services

Nonpostal Services *

Advertising

Licensing of Intellectual Property other than Officially Licensed Retail Products (OLRP)

Mail Service Promotion

Officially Licensed Retail Products (OLRP)

Passport Photo Service

Photocopying Service

Rental, Leasing, Licensing or other Non-Sale Disposition of Tangible Property

Training Facilities and Related Services

USPS Electronic Postmark (EPM) Program

Market Tests *

[FR Doc. 2020-15048 Filed 7-27-20; 8:45 am]

BILLING CODE 7710-FW-P